DEPARTMENT OF THE INTERIOR

Bureau of Indian Affairs

25 CFR Part 169

[BIA-2014-0001; DR.5B711.IA000814]

RIN 1076-AF20

Rights-of-Way on Indian Land

AGENCY: Bureau of Indian Affairs, Interior.

ACTION: Proposed rule; Extension of comment period.

SUMMARY: This document announces that the Department will accept comments on the proposed rule governing rights-of-way on Indian land until November 28, 2014. The proposed rule would comprehensively update and streamline the process for obtaining BIA grants of rights-of-way on Indian land, while supporting tribal self-determination and self-governance.

DATES: Comments on the proposed rule published June 17, 2014 (79 FR 34455) must be received by November 28, 2014.

ADDRESSES: You may submit comments by any of the following methods:

—Federal rulemaking portal: http://www.regulations.gov. The rule is listed under the agency name “Bureau of Indian Affairs.” The rule has been assigned Docket ID: BIA-2014-0001.

—Email: consultation@bia.gov. Include the number 1076-AF20 in the subject line.

—Mail or hand delivery: Elizabeth Appel, Office of Regulatory Affairs & Collaborative Action, U.S. Department of the Interior, 1849 C Street NW., MS 3642, Washington, DC 20240. Include the number 1076-AF20 on the envelope.

FOR FURTHER INFORMATION CONTACT: Elizabeth Appel, Director, Office of Regulatory Affairs & Collaborative Action, (202) 273-4680; elizabeth.appel@bia.gov.

SUPPLEMENTARY INFORMATION: On June 17, 2014, we published a proposed rule to comprehensively update and streamline the process for obtaining BIA grants of rights-of-way on Indian land. See 79 FR 34455. On August 18, 2014, we published an extension of the comment period, establishing a new comment deadline of October 2, 2014. On October 1, 2014, we released a press release notifying the public that we are extending the comment period to November 3, 2014, to allow additional time for tribal and public comment. On October 30, 2014, we released a press release notifying the public that we are again extending the comment period to November 28, 2014. We will accept all comments received between June 17, 2014, and November 28, 2014.

The proposed rule, frequently asked questions, and other information are online at: http://www.bia.gov/WhoWeAre/AS-IA/ORM/RightsofWay/index.htm.

Dated: October 30, 2014.
Kevin K. Washburn,
Assistant Secretary—Indian Affairs.

[FR Doc. 2014-26264 Filed 10-31-14; 4:15 pm]

BILLING CODE 4310-W7-P